DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before June 26, 2023.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on May 16, 2023.
Donald P. Burger,
Chief, General Approvals and Permits Branch.

Application No. | Applicant | Regulation(s) affected | Nature of the special permits thereof
Special Permits Data—Granted
11771-M | Phillips 66 Pipeline LLC | 172.302(c), 173.31(d)(1)(ii), 173.31(d)(1)(iv), 173.31(d)(1)(vi), 174.67(b), 174.67(c) | To modify the special permit to authorize DOT 117R rail cars.
21442-N | Cellblock FCS, LLC | 172.200, 172.300, 172.400, 172.700(a), 173.185(b), 173.185(f) | To authorize the manufacture, mark, sale, and use of alternative packaging for the transportation of lithium batteries, including damaged, defective, and recalled lithium batteries, using alternative hazard communication.
21447-N | Subctech Gmbh | 172.101(j), 173.185(a)(1) | To authorize the transportation in commerce of certain low production ion batteries weighing greater than 35 kg aboard cargo-only aircraft.
21479-N | Astra Space Operations, Inc | 173.301(f)(1), 178.35(e) | To authorize the transportation in commerce of cylinders that are not equipped with pressure relief devices. spacecraft.
21483-N | Trinity Industries, Inc | 179.100-12(c) | To authorize the manufacture, mark, sale, and use of certain DOT specification 105J600W and DOT specification 105J600I tank cars equipped with a welded protective housing for the transportation in commerce of Division 4.2 and Division 4.3 hazardous materials.
21487-N | Ford Motor Company | 172.101(j) | To authorize the transportation in commerce of lithium batteries greater than 35 kg net weight aboard cargo-only aircraft.
21504-N | Construction Helicopters, Inc | 172.101(j), 173.27(b)(2) | To authorize the transportation in commerce of Division 1.1, 1.2, 1.3 and 1.4 explosives, which are forbidden or exceed quantities authorized for transportation aboard cargo-only aircraft.
Special Permits Data—Denied
21090-M | Shijiazhuang Enric Gas Equipment Co., Ltd | 180.205 | To modify the special permit to authorize an additional location.
21418-N | Kronebusch Industries LLC | 178.33a-1 | To authorize the transportation in commerce of fire extinguishers where the pressure receptacle does not conform to 49 CFR 173.309.
21436-N | Contrivance Incorporated | 180.211(c)(2)(ii) | To authorize the transportation in commerce of certain DOT 4L cylinders to be repaired without leak testing before and after assembly of the outer insulated jacket.
Special Permits Data—Withdrawn

[FR Doc. 2023-11302 Filed 5-25-23; 8:45 am]

BILLING CODE P